DEPARTMENT OF THE INTERIOR

National Park Service

Elk and Vegetation Management Plan, Final Environmental Impact Statement, Rocky Mountain National Park, CO

AGENCY: National Park Service, Department of the Interior.

ACTION: Notice of Availability of the Final Environmental Impact Statement for the Elk and Vegetation Management Plan, Rocky Mountain National Park.

SUMMARY: Pursuant to National Environmental Policy Act of 1969, 42 U.S.C. 4332(2)(C), the National Park Service announces the availability of a Final Environmental Impact Statement for the Elk and Vegetation Management Plan, Rocky Mountain National Park, Colorado. This Final Plan analyzes five alternatives, including a no action alternative, to manage elk and vegetation within the Park. Alternative 3, the preferred alternative, would use a variety of conservation tools including fencing, redistribution of elk, vegetation restoration and lethal reduction of elk (culling). The number of elk removed would vary each year based on annual population surveys and hunter success outside the park.

DATES: The National Park Service will execute a Record of Decision (ROD) no sooner than 30 days following publication by the Environmental Protection Agency of the Notice of Availability of the Final Environmental Impact Statement.

ADDRESSES: Information will be available for public inspection (1) online at http://parkplanning.nps.gov, (2) in the office of the Superintendent, Vaughn Baker, 1000 West Hwy. 36, Rocky Mountain National Park, Estes Park, Colorado, 80517, 970-586-1206, (3) at all Rocky Mountain National Park Visitor Centers, (4) at the Estes Park Public Library, 335 East Elkhorn Ave., Estes Park, Colorado 80517, 970-586-8116, (5) at the Juniper Library at Grand Lake, P.O. Box 506, 316 Garfield Street, Grand Lake, CO 80447-0506, Phone: 970-627-8353, and (6) at the municipal libraries in Boulder, Loveland, Longmont, Fort Collins, and Granby, Colorado.

FOR FURTHER INFORMATION CONTACT: Therese Johnson, 1000 West Hwy. 36, Rocky Mountain National Park, Estes Park, Colorado 80517, 970-586-1262, therese_johnson@nps.gov.

Dated: September 4, 2007.
Anthony J. Schetzsle,
Deputy Director, Intermountain Region, National Park Service.

[FR Doc. E7-23936 Filed 12-10-07; 8:45 am]

BILLING CODE 4310-08-P